FEDERAL COMMUNICATIONS COMMISSION

47 CFR Part 64

[CG Docket Nos. 08-15 and 03-123; DA 13-2191]

Request for Comment on Petition Filed by AT&T Services, Inc., Regarding the Provision of Muting for Speech-to-Speech Telephone Services

AGENCY: Federal Communications Commission.

ACTION: Petition of Reconditeration: request for comments.

SUMMARY: In this document, the Commission seeks comment on an AT&T Services, Inc. (AT&T) petition requesting clarification or, in the alternative, expedited waiver of the requirement contained in the Commission's 2013 STS Order for providers to offer speech-to-speech (STS) users the option to have their voices muting during an STS call. The Commission seeks comment on AT&T's assertion that its current process for muting the voice of an STS user on incoming calls, when the user has not pre-selected muting in his or her profile, complies with this requirement. The Commission also seeks comment on AT&T's request for a twelve-month expedited waiver of the STS muting rules for incoming calls where the STS user has not pre-selected muting in his or her profile. AT&T maintains that a waiver will allow it to continue to use its current process for muting the voice of an STS user on incoming calls while it modifies its platform to create a process that will allow the CA to mute the STS user's voice at any time during a call without requiring a call-back.

DATES: Comments are due December 31, 2013 and reply comments are due January 10, 2014.

ADDRESSES: You may submit comments, identified by CG Docket Nos. 08-15 and 03-123, by any of the following methods:

Electronic Filers: Comments may be filed electronically using the Internet by accessing the Commission's Electronic Comment Filing System (ECFS), through the Commission's Web site http://fjallfoss.fcc.gov/ecfs2/. Filers should follow the instructions provided on the Web site for submitting comments. For ECFS filers, in completing the transmittal screen, filers should include their full name, U.S. Postal service mailing address, and CG Docket Nos. 08-15 and 03-123.

• Paper filers: Parties who choose to file by paper must file an original and one copy of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• All hand-delivered or messenger-delivered paper filings for the Commission's Secretary must be delivered to FCC Headquarters at 445 12th Street SW., Room TW-A325, Washington, DC 20554. All hand deliveries must be held together with rubber bands or fasteners. Any envelopes must be disposed of before entering the building.

• Commercial Mail sent by overnight mail (other than U.S. Postal Service Express Mail and Priority Mail) must be sent to 9300 East Hampton Drive, Capitol Heights, MD 20743.

• U.S. Postal Service first-class, Express, and Priority mail should be addressed to 445 12th Street SW., Washington, DC 20554.

In addition, parties must serve one copy of each pleading with the Commission's duplicating contractor, Best Copy and Printing, Inc., 445 12th Street SW., Room CY-B402, Washington, DC 20554, or via email to fcc@bcpiweb.com. For detailed instructions for submitting comments and additional information on the rulemaking process, see the SUPPLEMENTARY INFORMATION section of this document.

FOR FURTHER INFORMATION CONTACT: Caitlin Vogus, Consumer and Governmental Affairs Bureau, Disability Rights Office, (202) 418-1264, email: Caitlin.Vogus@fcc.gov.

SUPPLEMENTARY INFORMATION: This is a summary of the Commission's Public Notice, document DA 13-2191, released on November 14, 2013. The full text of document DA 13-2191, and any subsequently filed documents in this matter will be available for public inspection and copying via ECFS, and during regular business hours at the FCC Reference Information Center, Portals II, 445 12th Street SW., Room CY-A257, Washington, DC 20554. It also may be purchased from the Commission's duplicating contractor, Best Copy and Printing, Inc., Portals II, 445 12th Street SW., Room CY-B402, Washington, DC 20554, telephone: (800) 378-3160, fax: (202) 488-5563, or Internet: www.bcpiweb.com. Document DA 13-2191 can also be downloaded in Word or Portable Document Format (PDF) at http://www.fcc.gov/encyclopedia/telecommunications-relay-services-trs. To request materials in accessible formats for people with disabilities (Braille, large print, electronic files, audio format), send an email to fcc504@fcc.gov or call the Consumer and Governmental Affairs Bureau at 202-418-0530 (voice), 202-418-0432 (TTY).

Synopsis

1. On September 26, 2013, AT&T filed a petition requesting clarification, or, in the alternative, expedited waiver of the requirement contained in the 2013 STS Order, published at 78 FR 49693, August 15, 2013, and codified at 47 CFR 64.604(a)(1)(viii) of the Commission's rules, for providers to offer STS users the option to have their voices muted during an STS call. AT&T Services, Inc., Request for Clarification, or in the Alternative, Petition for Expedited Waiver, CG Docket Nos. 08-15 and 03-123.

2. Specifically, AT&T claims that it can meet this obligation for incoming calls to an STS user who has not pre-selected muting in his or her profile by “mut[ing] the user's voice only if the STS user drops off the call and the CA adds the user back to the call.” AT&T seeks clarification that this process complies with 47 CFR 64.604(a)(1)(viii) of the Commission's rules. In the alternative, AT&T seeks a twelve-month expedited waiver of the STS muting rules for calls where the STS user has not pre-selected muting in his or her profile.

AT&T claims that the waiver will allow it to continue offering STS users the call-back option while it modifies its platform to add a “hold” function during STS calls, to allow the CA to mute an STS user's voice at any time during a call without requiring a call-back.

Federal Communications Commission.
Karen Peltz Strauss,
Deputy Chief, Consumer and Governmental Affairs Bureau.

[FR Doc. 2013-28829 Filed 12-13-13; 8:45 am]

BILLING CODE 6712-01-P